DEPARTMENT OF THE INTERIOR

National Park Service

36 CFR Part 13

RIN 1024-AD13

National Park System Units in Alaska

AGENCY: National Park Service, Interior.

ACTION: Proposed rule.

SUMMARY: The National Park Service (NPS or Service) is proposing to revise 36 CFR part 13, the special regulations for the NPS-administered areas in Alaska. Part 13 was first adopted in 1981 (46 FR 31836, June 17, 1981) as “interim guidance” and the minimum necessary to administer the new park areas established by the Alaska National Interest Lands Conservation Act (ANILCA) (Pub. L. 96-487, December 2, 1980, 94 Stat. 2371, 16 U.S.C. 3101). While individual sections of part 13 have been amended and some new sections added since 1981, there has been no comprehensive review of the part 13 regulations. This proposed rulemaking intends to initiate the first phase of a continuing review of part 13. The specific proposals included with this rulemaking are changes that have been under consideration as separate rulemaking initiatives as well as certain designations, closures, openings, permit requirements and other provisions established by park Superintendents under their discretionary authority subsequent to the adoption of part 13, and which are now viewed as appropriate for consideration in rulemakings. We intend the part 13 review process started by this proposed rulemaking to be ongoing, with regularly recurring rulemaking proposals to maintain an up-to-date part 13 that is responsive to changing public and resource needs. It is the policy of the Department of the Interior, whenever practicable, to afford the public an opportunity to participate in the rulemaking process. Accordingly, interested persons may submit written comments, suggestions, or objections as noted below.

DATES: Comments must be received by June 1, 2004.

ADDRESSES: Send comments by mail to: National Park Service, Regional Director, Alaska Regional Office, 240 West 5th Ave., Anchorage, AK 99501. By email to: akro_regulations@nps.gov. By fax to: (907) 644-3805.

FOR FURTHER INFORMATION CONTACT: National Park Service, Victor Knox, Associate Regional Director, Alaska Regional Office, 240 West 5th Ave., Anchorage, AK 99501. Telephone: (907) 644-3501. E-mail: akro_regulations@nps.gov. Fax: (907) 644-3816.

SUPPLEMENTARY INFORMATION:

Background

Each park area in Alaska has a compendium consisting of the compiled designations, closures, openings, permit requirements, and other provisions established by the Superintendent under the discretionary authority granted in 36 CFR 1.5 and elsewhere in regulations. We have conducted a review of 36 CFR part 13 and the park compendiums, and propose the following changes. These changes, discussed below in the Section-by-Section Analysis, are part of an ongoing rulemaking process to be conducted in conjunction with the annual review of individual park compendiums. Several of these proposed rules are intended to replace existing provisions in park compendiums. Also covered are four proposed rules that have been under independent consideration and are included with this proposal for administrative convenience and efficiency. Each of these proposals is identified in the Section-by-Section Analysis. As used within this document, the terms “we,” “our,” and “us” refer to the National Park Service.

Section-by-Section Analysis

Section 13.1 Definitions

§ 13.1(c). We propose to define the term airstrip because the new regulations will prohibit the obstruction of airstrips (see § 13.10 below). The proposed definition identifies the specific types of airstrips at issue. It does not include every location susceptible to aircraft landings, but rather only airstrips that are generally known, at least locally, to be currently in such use. Such strips must be (1) visible to an average, reasonably alert person; (2) known in the local area as a location where aircraft land; or (3) marked in some way. This definition would include temporary and permanent airstrips over ground, snow, water, or ice.

§ 13.1(g). We propose to define the term facility because the new regulations will address public use of “facilities.” The existing part 13 regulations treat public use at or on NPS facilities the same as other areas. As visitor use levels have risen and user and/or resource conflicts have emerged, we have identified a need to manage select facilities and developed areas differently from other park areas. We propose to include buildings, structures, park roads (as that term is defined in § 1.4), parking lots, campgrounds, picnic areas, paved trails, and maintenance support yards in the facilities definition. Maintenance support yards are areas temporarily used during projects to store materials or for temporary employee housing. We intend the term facility to be construed narrowly. For example, camping will be prohibited at or on NPS facilities except for designated campgrounds. Camping on a paved trail or park road unreasonably interferes with other public access and poses obvious safety concerns. Current regulations require such a closure to be implemented as either a temporary closure not exceeding 12 months or as a rulemaking. Rather than propose a rulemaking for specific facilities in specific parks, we have instead adopted the approach proposed in these regulations.

Section 13.4 Information Collection

§ 13.4. The Paperwork Reduction Act requires that we obtain approval from the Office of Management and Budget (OMB) before we collect information from the public. During the development of this proposed rule we learned that the information collection references currently found in § 13.4 are obsolete and incorrect. They became obsolete mainly because of department-wide regulations that superseded §§ 13.10 through 13.16. Our information collection activities have also been affected by the enactment of Federal statutes governing the way we regulate cruise ships and commercial fishing access in Glacier Bay National Park. Our need to collect information under part 13, as currently written and as proposed, is covered under authorizations approved by the Office of Management and Budget for concession opportunities (OMB Control Number 1024-0125) and for special park uses (OMB Control Number 1024-0026). We propose to amend § 13.4 accordingly, and remove § 13.65(b)(7).

Section 13.10 Obstruction of Airstrips

§ 13.10(a)-(b). Alaska national park areas contain many remote and often minimally maintained or unmaintained bush landing areas [see § 13.1(c) above] relied on for general public and government access, and emergency use by aircraft. We considered including airstrips in the definition of facilities, but decided not to do so because it would unnecessarily broaden the facilities definition and the reach of the facilities regulations. For example, camping on an airstrip in a manner that obstructs a landing site is inappropriate because it poses safety problems, unfairly prevents other members of the public from accessing an area, and may interfere with government functions. However, camping adjacent to an airstrip would not pose problems under most circumstances. This regulation is modeled after an Alaska State law that prohibits obstructing airports and runways.

Section 13.18 Camping and Picnicking

§ 13.18(a)-(b). We propose revising paragraph (a) to carry into regulation various compendium restrictions on the length of time a specific campsite may be used by the same person or group. The regulation is modeled after State camping regulations. Camping in one location for a prolonged period can result in resource damage, particularly to soil and vegetation, and also does not allow for equitable allocation of preferred camping locations. The proposed revision also recognizes that we may require a party to relocate their camp if it unreasonably interferes with other public uses or may cause resource damage. Where camping in a particular location poses a resource concern, we will continue to utilize § 13.30 to establish permanent and temporary camping closures and restrictions. If the location of a specific party's camp may cause resource damage, we may require that party to relocate their camp under this proposed rule. Paragraph (a) would also restrict camping at or near park facilities other than campgrounds to avoid interference with the intended facility purposes. Other permanent or temporary camping closures or restrictions must be established pursuant to § 13.30. We propose paragraph (b) to provide a flexible and efficient method of notifying the public when picnicking is not appropriate in a particular area. The current regulation provides only for the posting of signs, which is not always the best method of providing the public with appropriate notice of picnicking restrictions and closures.

Section 13.19 Weapons, Traps, Bows and Nets

§ 13.19(a)-(e). We propose to revise § 13.19 in four aspects:

(1) Paragraph (a) serves to authorize the carrying, possession, and use of bear spray in all Alaska park areas. Such carrying, possession, and use are currently authorized in park areas established by ANILCA, but not in pre-ANILCA units. This revision allows bear repellent pepper spray in Klondike Gold Rush National Historical Park, Sitka National Historical Park, the former Mount McKinley National Park, the former Glacier Bay National Monument, and the former Katmai National Monument.

(2) Paragraphs (b) and (c) would prohibit the carrying, possession, and use of weapons, traps, and nets unless authorized by § 2.4 or § 13.19. Section 13.19 is currently structured only as an authorization.

(3) Paragraph (d) would authorize the lawful possession and use of firearms.

(4) Paragraph (e) clarifies that traps, bows, nets, and other implements may also be used and possessed in Alaska park areas for the lawful taking of fish and wildlife when authorized by applicable law or regulation. Currently § 13.19 addresses only the carrying of these items.

Section 13.20 Preservation of Natural Features

§ 13.20(a)-(f). This section would be revised in four aspects:

(1) The former Glacier Bay National Monument would be deleted from the applicability section of this regulation. Collecting natural products in the former monument is managed under § 13.20. Deleting this unit from § 13.20(a) would subject the former monument to the provisions in § 13.20(b)-(f) and consequently allow for the collection of plants essential for traditional ceremonies and collection of mushrooms.

(2) Paragraph (b) is a prohibition statement that does not effect a substantive change. Like the proposed prohibition statement in § 13.19, a new paragraph (b) is proposed to more clearly indicate that collecting natural products is prohibited, except as specifically authorized in the remainder of the section, § 2.1, or under the subsistence provisions of 36 CFR part 13.

(3) Paragraph (c) would be revised to allow collection of dead wood on the ground as fuel for campfires in the park. A new paragraph (d) would provide the Superintendents discretion to allow collection of dead standing wood as fuel for campfires in the park. Standing dead wood provides important wildlife habitat. In some cases, however, collection of dead standing wood for campfires may be appropriate in specific areas. We believe, however, that collection of dead standing wood in these areas should be considered on an individual basis; and flexibility to close areas is necessary to prevent over-utilization. The regulation also seeks to protect “ghost trees” created by the 1964 earthquake.

(4) We propose providing Superintendents the discretion to place limits on the size or quantity of natural products that may be collected without following the closure procedures in a new paragraph (f). Size and quantity limitations will be adopted in accordance with § 1.7.

Section 13.21 Taking of Fish and Wildlife

§ 13.21(d)(5). We propose a new paragraph (d)(5) to clarify and explain the existing procedure for checking hunting parties passing through all Alaska park areas. Part 2 regulations allow Superintendents the discretion to establish procedures for transporting lawfully taken wildlife through park areas. We propose to establish these procedures as the default rule since hunting is allowed in most Alaska parks. Since some form of hunting is allowed in most areas, identity of the transporter and the location of the kill site are normally the only pieces of information necessary. We do recognize, however, that different procedures may be more appropriate in other Alaska park areas, particularly where hunting is not allowed. In these areas, the Superintendents may establish different procedures for transporting wildlife taken lawfully under § 2.2.

Section 13.22 Unattended or Abandoned Property

§ 13.22(b). Paragraph (b) would be revised to reflect the generally shorter period of time now provided in park compendiums, that experience has shown is sufficient for the disposition of property in most circumstances. Paragraph (b) would also be revised to require that personal property be labeled with the owner's identity, contact information, the date the property was left, and other pertinent information. This allows us to determine how long the personal property has been left and to contact the owner if there is a problem or the property needs to be moved. The regulation also establishes specific restrictions on fuel storage designed to minimize the chances of fuel spills. The consequences of a fuel spill can be catastrophic, especially in parks that contain stream headwaters. Specifically, the regulation allows an individual to have only one fuel cache within a park unit; limits to 30 gallons the amount of fuel that can be stored; limits the location fuel can be stored near water; and requires that it be stored in a closed, undamaged fuel container. We recognize that special circumstances may require different or additional restrictions, which may be established in accordance with paragraph (c). The Superintendent may relax the proposed general conditions on leaving property unattended if circumstances warrant. For example, Yukon Charley Rivers National Preserve intends to allow more than 30 gallons of fuel and also allow fuel to be left closer to water sources. In this unit, motorboats are the primary means of access and it is often necessary for people to travel substantial distances on waterways. Therefore, Yukon Charley Rivers National Preserve intends to adopt requirements different from those proposed as the standard here. These requirements will be noted in the park's compendium and the public notified in accordance with paragraph (c).

Section 13.30 Closure Procedures

§ 13.30(c)(1) and (d)(1). Section 13.30 currently provides procedures for closing and restricting certain activities authorized under §§ 13.18(a), 13.19, and 13.21. Before 1986, the NPS implemented ANILCA § 1110 access for traditional activities in part 13 and also adopted procedures for closing and restricting this access under §13.30. In 1986, the regulations were superseded by Department of the Interior regulations in 43 CFR part 36. The current Department regulations also provide procedures for closing or restricting the access that is otherwise authorized by those sections. Consequently, we propose a housekeeping change to delete the reference in § 13.30(c)(1) and (d)(1) on closures and restrictions to snowmachines, motorboats, airplanes, and other means of nonmotorized surface transportation since the procedures are now found in 43 CFR part 36.

§ 13.30(h). A new paragraph (h) would provide specific provisions for closing and restricting park facilities. Such facilities are provided for particular purposes and activities that from time to time must be curtailed due to emerging circumstances and conditions. Those instances usually fall under the categories of public health, safety, and protection of property.

Section 13.46 Use of Snowmobiles, Motorboats, Dog Teams, and Other Means of Surface Transportation Traditionally Employed by Local Rural Residents Engaged in Subsistence Uses

§ 13.46(e). Paragraph 13.46(e) would be updated to show the correct regulatory reference. The referenced sections were removed and reserved in 1986 and replaced by 43 CFR 36.11(c), (d), (e), and (g). One of the sections reserved at that time is now proposed for use (see § 13.10 above). This could result in confusion if the administrative correction is not made now.

Section 13.60 Aniakchak National Preserve

§ 13.60(b). We propose to add a new paragraph (b) to provide for a minimum distance between people and wildlife to protect both wildlife and park visitors. Wildlife viewing, fishing, or other activities in areas of concentrated food sources, especially for bears, can alter wildlife behavior and cause circumstances of hazard to park visitors and wildlife. Disruption of the natural wildlife pattern can also reduce or eliminate the viewing opportunities that attract many visitors to these areas. The restrictions proposed for paragraph (b) are intended to mitigate the risks associated with areas of abundant fish and wildlife while accommodating large numbers of visitors drawn to the area because of the wildlife. Not subject to the wildlife viewing conditions are those engaged in a lawful hunt, individuals on a bear viewing platform, or those who comply with a written protocol approved by the Superintendent. The State of Alaska, the NPS, and commercial operators in Aniakchak have spent considerable time preparing standards for viewing wildlife. The protocol referred to in the regulatory language is intended to mean these jointly developed standards.

Section 13.62 Cape Krusenstern National Monument

§ 13.62(a) Subsistence Resident Zone. This proposed change would amend § 13.62 by replacing the existing subsistence zone communities with a single region-wide resident zone area. This change is also proposed for Kobuk Valley National Park. This action is in response to recommendations pursuant to section 808 of ANILCA by the monument's Subsistence Resource Commission on behalf of the affected communities and other residents of the NANA region, and subsequent instructions from the Secretary of the Interior. Our resident zone regulations provide that resident zones may be either communities or areas. More than 90 percent of the NANA region's residents are Inupiaq Eskimos with a long history of subsistence use in the monument. The cohesive nature of the social and cultural relationships of the NANA region is well documented. We have completed an analysis of the NANA region and found that the area meets the criteria of a resident zone established under the provisions of § 13.43. Consequently, there is no administrative or management purpose to be achieved by treating the several communities of the region separately for subsistence activities in the monument. The substitution of a region-wide resident zone will allow the harvest and use of subsistence resources by all similarly situated local residents without burdening some subsistence users and the NPS with a permit process.

Section 13.63 Denali National Park and Preserve

§ 13.63(b) Camping. We propose to delete the reference to camping in the area along the road corridor since it is proposed for inclusion in the Frontcountry Developed Area regulation in §13.63(i).

§ 13.63(i) Frontcountry Developed Area. A new paragraph (i) is proposed for the most heavily used area of the park, which would be designated as the Frontcountry Developed Area (FDA). This area includes that portion of the park formerly known as Mt. McKinley National Park (Old Park) that is not designated as wilderness. This area was described at 57 FR 45166, 45178-80, September 30, 1992. The areas of the FDA are depicted on the 1:250,000 scale topographic map of Denali National Park and Preserve published by the USGS as map 63148-F8-PF-250 and revised in 1986. The FDA includes all lands and waters within 150 feet either side of the centerline of the Denali Park Road, all areas between the Alaska Railroad and the ordinary high water mark on the left [west] bank of the Nenana River, the park entrance area north of Hines Creek and east of the 149th Meridian and south of a line extending west from the mouth of Junco Creek, the wilderness exclusions surrounding Wonder Lake, the Eielson Visitor Center, Toklat Road Camp, East Fork Ranger Cabin, Igloo, Teklanika, Sanctuary and Savage Campgrounds, areas surrounding eight former or proposed gravel pits along the park road, and 150 feet back from all turnouts and parking areas existing in 1980. The level of public use in the area requires a more comprehensive regulatory structure to equitably allocate opportunity for public use and to protect park resources. The numbered paragraphs that follow in the proposed rule deal with specific subject matter rules applicable within the FDA. Paragraph (i)(1) restricts camping to designated campgrounds and establishes seasonal permit requirements and length of stay limits. Paragraph (i)(2) restricts where fires may be set. Paragraph (i)(3) establishes rules for pets. Paragraph (i)(4) allows the Superintendent to prohibit or restrict other activities within the FDA for public health, safety, and resource needs. The need for these new regulatory provisions is predicated on the higher levels of public use and activity in the FDA and as noted, would not apply outside the FDA.

§ 13.63(j). Proposed paragraph (j) would prohibit the use of bicycles on the specified trails. This restriction would minimize the risk of negative wildlife encounters related to surprising wildlife and would protect the safety of pedestrians who use the trails. These trails are designed for and receive higher pedestrian concentrations than non-restricted trails and require restriction of bicycle use in the interest of safety for both pedestrians and riders.

§ 13.63(k). A new paragraph (k) would restrict roller skates, skateboards, roller skis, rollerblades, in-line skates, and other coasting/skating devices on specified trails. This restriction would apply to the same trails as specified for bicycles, as well as the Denali Park Road. This proposed restriction is based on the same safety concerns as the proposed regulation on bicycles. The restriction also includes the Denali Park Road. Compared to bicycles, skating devices have a limited ability to stop. Therefore, we propose to also close the Denali Park Road to skating devices. The roadway has numerous narrow and winding sections with limited visibility and a high volume of passenger vehicles, recreational vehicles, and buses.

Section 13.65 Glacier Bay National Park and Preserve

§ 13.65(a)(4) and (a)(5). The current regulations for commercial fishing lifetime access permits that are the subject of these proposed changes implemented § 123(a) of the Omnibus Consolidated and Emergency Supplemental Appropriations Act for FY 1999 (the Act), including eligibility criteria for lifetime access permits for commercial fishing in the park. Recent judicial interpretation of § 123(b) of the Act indicates that the eligibility criteria currently provided in § 13.65(a)(4) and (a)(5) for commercial fishing lifetime access permits require revision to be consistent with the court's ruling regarding similar criteria in § 123(b). The existing regulations limit eligibility for lifetime access permits to fishermen engaged in commercial fishing as limited entry permit holders during a minimum number of qualifying years. The district court ruling for § 123(b) suggests that being engaged in commercial fishing as a crewmember should also count toward eligibility. For this reason we propose revising the regulations for lifetime access permits to include crewmember time for purposes of meeting the minimum number of qualifying years of commercial fishing. This change would revise only the criteria for determining the number of qualifying years. The requirement that applicants be limited entry permit holders at the time of application would not change.

§ 13.65(b)(1). We propose adding a definition for the term Bartlett Cove Developed Area. The Bartlett Cove Developed Area must be defined because we also propose adding special regulations for this heavily visited area of the park. The special regulations will equitably allocate recreational opportunities among users and protect park resources. The Bartlett Cove Developed Area will include all NPS administered lands and waters within one mile of any Bartlett Cove facility. A map of the Bartlett Cove Developed Area will be made available to the public at the visitor center in Bartlett Cove.

§ 13.65(b)(3)(ix)(C)(1)—Bartlett Cove Developed Area. We propose several regulations applicable within the Bartlett Cove Developed Area. This paragraph proposes to (i) limit camping to the Bartlett Cove campground during the peak summer season; (ii) restrict cooking, consuming, or preparing food to certain designated areas to protect people and wildlife, specifically bears; (iii) restrict food storage to specified areas and devices that bears cannot easily access; (iv) close for safety reasons the Forest Loop, Bartlett River, and Bartlett Lake trails to the use of bicycles; and (v) allow the Superintendent to prohibit or restrict other activities within the Bartlett Cove Developed Area for public health, safety, and resource needs. The need for these regulatory provisions is predicated on the higher levels of public use and activity in the Bartlett Cove Developed Area and, as noted, would not apply outside the area.

§ 13.65(b)(3)(ix)(C)(2)—Bartlett Cove Public Use Dock. We propose several rules providing for the safe and equitable use of Bartlett Cove docks. This paragraph proposes to (i) establish a daily time limit for individuals securing aircraft to the one designated aircraft float that must be shared by all users; (ii) restrict vehicles exceeding 30,000 pounds gross vehicle weight on the dock since heavier vehicles may damage the structure; (iii) prohibit leaving property on or attached to floats or the pier without prior permission from the Superintendent; (iv) prohibit processing commercially caught fish on the Public Use Dock; (v) prohibit commercially buying or selling fish on or over the Public Use Dock; (vi) prohibit using the fuel dock for activities besides fueling or waste pump-out; (vii) prohibit leaving a vessel unattended on the fuel dock for any length of time due to limited space; and (viii) prohibit using electrical power from the shore without prior authorization from the Superintendent.

§ 13.65(b)(3)(ix)(C)(3)—Collection of interstadial wood. We propose to prohibit the collection and burning of interstadial wood. Interstadial wood is aged wood preserved by historic glacial activity. This wood provides important geologic information and has an intrinsic value that warrants additional protection.

§ 13.65(b)(3)(ix)(C)(4)—Collection of rocks and minerals. We propose to make the former Glacier Bay National Monument subject to § 13.20. However, we do not believe that the provisions in § 13.20 allowing for collection of rocks and minerals should be extended to the former monument. Rather, we propose to maintain the prohibition on collecting of rocks and minerals in the former monument portion of the park.

§ 13.65(b)(3)(ix)(C)(5)—Collection of goat hair. We propose to allow collection of naturally shed goat hair in Glacier Bay National Park and Preserve. Goat hair is collected by members of local communities and used for making handicrafts. We believe this cultural practice is an appropriate use of park resources and should be accommodated.

§ 13.65(b)(3)(ix)(C)(6)—Camping. We propose to replace the current backcountry camping permit requirement in Glacier Bay pursuant to § 2.10 with a camping orientation requirement. Camping orientations will be provided at the park visitor center, or as otherwise indicated on the park Web site and/or other postings convenient to visitors. The goal of the required orientation is to effectively protect habitat and wildlife resources in those areas most heavily used by the public, and provide the public with safety information that can be instrumental in preventing visitor accidents while camping in the park. The required orientation will ensure that overnight campers in the designated area are provided up-to-date safety and resource protection information; including information on area closures, advisories of areas with heavy bear activity, marine mammal haul-out beaches, bird nesting sites, and other circumstances that change often in very short timeframes. This proposed requirement would apply only to campers using the shoreline up to ¼ nautical-mile (1,519 feet) above the line of mean high tide within Glacier Bay, as this constitutes the main area where human impacts are most likely. Repeat campers who may have had an orientation earlier in the season would still need to visit or contact the park visitor center for a brief orientation update prior to going out for each trip. This would allow them to receive the most current update on bear activity, emergency restrictions, changes in wildlife populations or behaviors, and other information. Maps and informational brochures, food storage containers, updated weather reports, and other local information are also frequently provided for visitors during the orientation.

§ 13.65(b)(3)(ix)(C)(7)—Commercial transport of passengers by motor vehicles in Bartlett Cove. This proposed regulation eliminates the requirement to have a commercial operations permit to transport 15 or fewer people between Gustavus and Bartlett Cove. We believe a permit is unnecessary since commercial transporters primarily transport individuals from Gustavus Airport to Glacier Bay Lodge and the short distance between Gustavus and Bartlett Cove, and only a limited number of commercial operators (each of whom is known to the NPS) provide these services.

Section 13.66 Katmai National Park and Preserve

§ 13.66(c) Traditional red fish fishery. We propose revising the park regulations to conform existing fishing regulations to the provisions of section 1035 of the Omnibus Parks and Public Lands Management Act of 1996 (the Act) (Pub. L. 104-333, 110 Stat. 4240). The intent of this proposed regulation is to incorporate this statutory fishing allowance into existing park fishing regulations. We propose to add a new § 13.66(c) to allow local descendants of Katmai residents to continue their traditional fishing for red fish. Existing NPS regulations may have had the effect of restricting the traditional local fishery that is allowed by the Act. Traditional fishing for red fish by local residents is accomplished using a variety of fishing gear such as spear, dip net, and gill net. It is therefore necessary to conform the park regulations to the statutory provision in order to eliminate any confusion as to the applicable authority.

§ 13.66(d)—Brooks Camp Developed Area. A new § 13.66(d) is proposed for the most heavily used area of the park, which would be designated the Brooks Camp Developed Area (BCDA). The level of public use in the area requires a more comprehensive regulatory structure to equitably allocate opportunity for public use and to protect park resources. The area included in the BCDA is described in the introductory paragraph of the section. The numbered paragraphs that follow in the proposed rule address specific subject matter rules that would apply within the BCDA. These rules would not apply in areas of the park outside the BCDA. Paragraph (d) proposes to (1) limit camping to the Brooks Camp Campground and other designated areas during the times of highest visitation, establishes limits on length of stay, and also establishes group size limits at the Brooks Camp Campground during the fee period; (2) restrict use of the bear viewing platforms and boardwalks to specified hours; (3) close a small area adjacent to the Brooks River from the Riffles Bear Viewing Platform to a point 100 yards above Brooks Falls between June 15 and August 15; (4) establish rules for food storage; (5) restrict fires to designated fire rings; (6) restrict dishwashing to designated locations; (7) prohibit pets; (8) require attendance at a Bear Orientation presentation; (9) establish where food possession and picnicking are allowed and prohibit the possession and consumption of food at the river in the BCDA; (10) prohibit unattended personal property except at designated areas; and (11) allow the Superintendent to prohibit or restrict other activities within the BCDA for public health, safety, and resource needs. The need for these provisions is predicated on the higher levels of public use and activity in the BCDA and the significant levels of wildlife, especially bears, present in the area. A primary purpose is to prevent bears and other wildlife from learning to associate humans, human developments, or camp sites as potential sources of food, thus protecting wildlife and park visitors alike. As noted, these restrictions would not apply outside the BCDA nor other than during the peak summer season.

§ 13.66(e)—Wildlife viewing conditions.Paragraph (e) is proposed to provide for a minimum distance between people and wildlife to protect both wildlife and park visitors. Wildlife viewing, fishing, or other activities in areas of concentrated food sources, especially for bears, can alter wildlife behavior and cause hazardous circumstances for park visitors and wildlife. Disruption of the natural wildlife pattern can also reduce or eliminate the viewing opportunities that attract many visitors to these areas. The restrictions proposed for paragraph (e) are intended to mitigate the risks associated with areas of abundant fish and wildlife while accommodating large numbers of visitors drawn to these areas because of the wildlife. Not subject to the wildlife viewing conditions are those visitors engaged in a lawful hunt in the preserve, individuals on a bear viewing platform, or people who comply with a written protocol approved by the Superintendent. The State of Alaska, the NPS, and commercial operators in Katmai have spent considerable time preparing standards for viewing wildlife. The protocol referenced in the regulatory language is these jointly developed standards.

§ 13.66(f). Paragraph (f) is proposed to facilitate orderly and equitable use of the Lake Camp launching ramp and dock. The proposed rule would prohibit leaving boats, trailers, or vehicles longer than 48 hours without authorization of the Superintendent.

Section 13.67 Kenai Fjords National Park

§ 13.67(b)—Exit Glacier. We propose to add paragraph (b) to the existing park special regulations. Paragraph (b) includes specific rules that would be applied to access to and on Exit Glacier near its terminus. Such rules are necessary and appropriate to protect the public from the extremely hazardous conditions associated with falling ice in that area.

§ 13.67(c)—Public use cabins. Paragraph (c) is proposed to protect fragile vegetation in high use areas as well as the expected privacy and exclusive use of public use cabins by authorized users. We propose to prohibit camping and fires within 500 feet of the North Arm and Holgate public use cabins and within the five-acre parcel leased by the NPS where the Aialik public use cabin is located. This closure is intended to avoid site-specific user conflicts while allowing reasonable transient passage through the area by others. This proposal is similar to a State of Alaska restriction that prohibits camping, pitching a tent, or staying overnight within 300 feet of a State public use cabin [11 Alaska Administrative Code 12.230(m)]. This paragraph would not apply on State land below the ordinary mean high tide, nor to the cabin permit holder when using a tent platform or tent pad provided by the NPS.

Section 13.68 Klondike Gold Rush National Historical Park

§ 13.68(a)—Camping. There is a need to allocate limited designated camping space through the use of a camping permit system. For camping at the Dyea campground, camping permits would be available at the self-registration station in the campground. For camping in all other areas of the park, camping permits would be available at the park office. Designated areas for camping will be established as a permit condition when and where appropriate. Because of the need to allocate limited space among users, we are also proposing a 14-day per calendar year limit for camping at the Dyea campground.

§ 13.68(b)—Preservation of natural, cultural, and archaeological resources. We propose to allow the collection of mushrooms in the park. Although mushrooms can be collected in most Alaska park areas pursuant to § 13.20(b)(1), that provision does not apply to Klondike Gold Rush. The park was not included in § 13.20(b)(1) when it was adopted because at that time the focus was on the park areas that were added by ANILCA. The pre-ANILCA park areas in many instances remained subject to the general NPS regulations without further modification by part 13. However, mushrooms are abundant in the park because of the favorable growing conditions provided by the temperate rain forests of Southeast Alaska. They are commonly gathered non-commercially by local residents and visitors in much the same way as wild fruits and berries are gathered where abundant on public lands in other areas. At this time, there does not appear to be a need to continue to prohibit the gathering of mushrooms. This paragraph proposes to allow the Superintendent to include mushrooms in the allowance for collecting fruits, berries, and nuts subject to conditions, restrictions, and closures established under § 2.1(c).

§ 13.68(c). A new paragraph (c) would address weapons on State-owned lands and waters that the NPS administers pursuant to a memorandum of understanding. This proposed paragraph would provide that NPS regulations prohibiting the general public from possessing, carrying and using weapons, traps, and nets for the lawful taking of fish and wildlife do not apply on these State-owned lands and waters.

Section 13.69 Kobuk Valley National Park

§ 13.69(a)(1)—Subsistence Resident Zone. The proposed change would amend § 13.69 by replacing the existing subsistence zone communities with a single region-wide resident zone area. An identical modification is proposed for Cape Krusenstern National Monument. This action is in response to recommendations pursuant to § 808 of ANILCA by the park's Subsistence Resource Commission on behalf of the affected communities and other residents of the NANA region, and subsequent instructions from the Secretary of the Interior. Our resident zone regulations provide that resident zones may be either communities or areas. More than 90 percent of the NANA region's residents are Inupiaq Eskimo residents with a long history of subsistence use in the Park. The cohesive nature of the social and cultural relationships of the NANA region is well documented. We have completed an analysis of the NANA region and found that the area meets the criteria of a resident zone established under the provisions of § 13.43. Consequently, there is no administrative or management purpose to be achieved by treating the several communities of the region separately for subsistence activities in the Monument. The substitution of a region-wide resident zone will allow the harvest and use of subsistence resources by all similarly situated local residents without burdening certain subsistence users and the NPS with a permit process.

Section 13.72 Sitka National Historical Park

§ 13.72(a)(1)—(3) Prohibited Activities. The existing restriction on overnight camping is recodified, without change, as paragraph (1). In new paragraphs (2) and (3), we propose to make permanent the existing compendium restrictions for bicycles, skates, skateboards, and similar recreational devices. Park access is predominantly by foot on narrow wooded trails. Pedestrian traffic is largely composed of families and senior citizens. Under current public use patterns and management objectives, we have found that use of these devices on the park trails and other walkways is detrimental to pedestrian safety. However, we recognize that bicycle use may be appropriate in the future if public use patterns or management objectives change.

Section 13.73 Wrangell-St. Elias National Park and Preserve

§ 13.73(b)—Kennecott Mines National Historic Landmark (KNHL). We propose adding a new paragraph (b) for the Kennecott Mines National Historic Landmark, one of the most heavily used areas of the park. We propose limiting activities in this high public use area to protect historic structures and contents and to protect the public from safety hazards. The numbered paragraphs that follow in the proposed rule address specific subject matter rules applicable within the KNHL. However, these prohibitions do not apply to private land within the KNHL. Paragraph (b)(1) prohibits entering closed structures or passing beyond barricades. Paragraph (b)(2) prohibits entering mine tunnels and other mine openings. Paragraph (b)(3) prohibits camping in or on any historic structure. Paragraph (b)(4) prohibits camping at the mill site and defines this area. Paragraph (5) prohibits lighting or maintaining a fire within the mill site as defined in § 13.73(b)(4).

§ 13.73(c)—Headquarters/Visitor Center Developed Area (HVCDA). The Headquarters/Visitor Center area is also one of the most heavily visited areas of the park and we propose to add a new paragraph (c) applicable to this area. This area consists of all NPS administered lands and waters within one-half mile of the headquarters building other than the Valdez Trail. The level of public use in the area requires a more comprehensive regulatory structure to equitably allocate services and facilities among users and to protect park resources. The numbered paragraphs that follow in the proposed rule deal with specific subject matter rules applicable within the HVCDA. Paragraph (1) prohibits lighting or maintaining a fire. Paragraph (2) prohibits camping within the HVCDA. Paragraph (3) prohibits entering the HVCDA after visiting hours which will be posted on the entrance gate.

§ 13.73(d)—Slana Developed Area (SDA). Like KNHL and HVCDA, the area around the Slana Ranger Station also receives significant visitation. We propose adding a new paragraph (d) to define this developed area as the area within one-quarter mile of the ranger station.

§ 13.73(e)—KNHL and Developed Area Closures and Restrictions. We propose to add paragraph (e) to allow the Superintendent to prohibit, restrict, or condition activities within the KNHL, HVCDA, and SDA for reasons of public health, safety, and resource needs, with notice posted on the park website and other areas convenient to visitors.

Compliance With Other Laws

Regulatory Planning and Review (Executive Order 12866)

This document is not a significant rule and is not subject to review by the Office of Management and Budget under Executive Order 12866.

(1) This rule will not have an effect of $100 million or more on the economy. It will not adversely affect in a material way the economy, productivity, competition, jobs, the environment, public health or safety, or State, local, or tribal governments or communities.

A qualitative cost/benefit analysis was conducted to examine specific costs and benefits associated with this proposed regulation. That analysis concludes that positive net benefits would be generated by each component of the proposed regulatory action, and hence by the regulatory action overall. Further, governmental processes in NPS-administered areas in Alaska would be improved, and market failures would be more effectively addressed. Therefore, it is anticipated that economic efficiency would be improved by this proposed regulatory action.

(2) This rule will not create a serious inconsistency or otherwise interfere with an action taken or planned by another agency. Actions taken under this rule will not interfere with other agencies or local government plans, policies, or controls. This is an agency specific rule. The proposals included with this rulemaking apply on areas managed by the National Park Service and are not known to be inconsistent with other Federal regulations. Several proposals are specifically intended to improve consistency between State and Federal areas. The review process used to develop the rulemaking proposals included consultation with the State of Alaska Department of Natural Resources to seek views of appropriate officials and to provide maximum conformity with State rules on adjacent lands as well as active participation where NPS is proposing variation from similar State regulations.

(3) This rule does not alter the budgetary effects of entitlements, grants, user fees, or loan programs, or the rights and obligations of their recipients. This rule will have no effects on entitlements, grants, user fees, or loan programs or the rights or obligations of their recipients. No grants or other forms of monetary supplements are involved. While this proposed rule would implement a statutory use authorization for traditional fishing at Katmai National Park and broaden slightly commercial fishing access at Glacier Bay National Park, neither entitlement has budgetary impact.

(4) This rule does not raise novel legal or policy issues. This rule simply implements miscellaneous existing legislative enactments, judicial interpretations, and regulatory provisions. The proposed rule is not a completely new proposal, but rather a continuation of the rulemaking process begun in 1980 to implement various provisions required by the Alaska National Interest Lands Conservation Act (ANILCA). In implementing ANILCA, the NPS has sought to promulgate only those regulations necessary to interpret the law and to provide for the health and safety of the public and the environment. While the legal and policy issues associated with some parts of ANILCA may have been considered novel when adopted, they have long since lost their novelty. The continuing implementation of ANILCA has become routine and the process begun by this rulemaking is intended to increase participation and cooperation in the evolution of NPS regulations for Alaska.

Regulatory Flexibility Act

The Department of the Interior certifies that this document will not have a significant economic effect on a substantial number of small entities under the Regulatory Flexibility Act (5 U.S.C. 601 et seq.). The economic effects of this rule are local in nature and negligible in scope. The proposals in this rulemaking will either implement rules unrelated to business activity or make permanent various temporary and emergency rules under which area businesses have been operating. The rules included in this proposed rulemaking will have no effect or in some cases a salutary effect by eliminating year to year uncertainty for businesses and park visitors. The regulatory flexibility analysis prepared for the original Glacier Bay commercial fishing regulations (see Record of Compliance, RIN 1024-AB99, dated July 27, 1999) remains applicable and is not changed by this proposed rule.

A qualitative Regulatory Flexibility threshold analysis was conducted to examine potential impacts to small entities. Based on the cost/benefit analysis referred to above, that threshold analysis concludes that, since no significant costs are anticipated for any component of the proposed action, significant economic impacts would not be imposed on a substantial number of small entities.

Small Business Regulatory Enforcement Fairness Act (SBREFA)

This rule is not a major rule under 5 U.S.C. 804(2), SBREFA. This rule:

a. Does not have an annual effect on the economy of $100 million or more. Expenses related to compliance with various provisions of this proposed rule are slight. No new user fees or charges are proposed. Any incidental costs of registering, checking-in, or participating in orientation programs would be small and often would not be additional to those already associated with visiting park areas.

b. Will not cause a major increase in costs or prices for consumers, individual industries, Federal, State, or local government agencies, or geographic regions. The proposed provisions of this rulemaking will generally continue existing rules and use patterns for the park areas in Alaska. As noted above, new registration and orientation requirements for some activities can be accomplished generally at no additional cost to that currently incurred in visiting park areas. Application costs associated with subsistence permits at Cape Krusenstern National Monument and Kobuk Valley National Park will be substantially reduced by the proposed changes in the subsistence resident zones for those units.

c. Does not have significant adverse effects on competition, employment, investment, productivity, innovation, or the ability of U.S.-based enterprises to compete with foreign-based enterprises. The various provisions of this proposed rule do not apply differently to U.S.-based enterprises and foreign-based enterprises. The proposed changes to the Glacier Bay commercial fishing regulations will have a beneficial effect on local small businesses by making eligibility criteria for commercial fishing lifetime access permits less restrictive. It is expected that a small number of limited entry permit holders may be able to qualify for commercial fishing in the park.

Unfunded Mandates Reform Act

This rulemaking addresses only actions that will be taken by the NPS. It will not require any State, local or tribal government to take any action that is not funded. In accordance with the Unfunded Mandates Reform Act (2 U.S.C. 1501 et seq.):

a. This rule will not “significantly or uniquely” affect small governments. A Small Government Agency Plan is not required. This rule is an agency specific rule and imposes no other requirements on small governments. Several of the proposed regulations are based on State of Alaska statutes. For example, the proposed regulations involving airstrip obstruction, backcountry camping and protection of dead, standing wood are based on current State of Alaska law. This consistency between the State of Alaska and the National Park Service is a benefit to visitors.

b. This rule will not produce a federal mandate of $100 million or greater in any year, i.e., it is not a “significant regulatory action” under the Unfunded Mandates Reform Act.

Takings (Executive Order 12630)

In accordance with Executive Order 12630, the rule does not have significant takings implications. A takings implication assessment is not required because no taking of personal property will occur as a result of this proposed rule. The proposed change in the Glacier Bay commercial fishing regulations will slightly broaden commercial fishing access and the regulatory flexibility analysis previously prepared for those regulations remains applicable (see section 2 above).

Federalism (Executive Order 13132)

In accordance with Executive Order 13132, the rule does not have sufficient federalism implications to warrant the preparation of a Federalism Assessment. The proposed rule is limited in effect to Federal lands and waters managed by the NPS and will not have a substantial direct effect on State and local government in Alaska. This proposed rule was initiated in part at the request of the State and has been drafted in closed consultation with the State of Alaska and, as such, promotes the principles of federalism.

Civil Justice Reform (Executive Order 12988)

In accordance with Executive Order 12988, the Office of the Solicitor has determined that this rule does not unduly burden the judicial system and meets the requirements of sections 3(a) and 3(b)(2) of the order. This rule does not impose a new burden on the judicial system.

Paperwork Reduction Act

This regulation requires an information collection from 10 or more parties, which must be submitted for OMB approval under the Paperwork Reduction Act. However, these are not new collection requirements and, therefore, no additional request to OMB has been prepared. The information collection activities are necessary for the public to obtain benefits in the form of concession contracts and special use permits. Information collection associated with the award of concession contracts is covered under OMB control number 1024-0125; the information collection associated with the issuance of special use permits is covered under OMB control number 1024-0026.

National Environmental Policy Act

We have analyzed this rule in accordance with the criteria of the National Environmental Policy Act and 516 DM. This rule does not constitute a major Federal action significantly affecting the quality of the human environment. An environmental assessment and finding of no significant impact for the Cape Krusenstern National Monument and Kobuk Valley National Park resident zone proposals has been completed. The remainder of the rule has been determined to be categorically excluded from further NEPA analysis in accordance with Departmental Guidelines in 516 DM 6 (49 FR 21438), and NPS procedures in Reference Manual-12.3.4.A(8), and there are no applicable exceptions to categorical exclusions (516 DM 2, Appendix 2; RM-12.3.5). Both are available at the Alaska Regional Office, 240 5th Avenue, Anchorage, Alaska, 99501, 907-644-3533.

Government-to-Government Relationship With Tribes

In accordance with Executive Order 13175 “Consultation and Coordination with Indian Tribal Governments” (65 FR 67249); the President's memorandum of April 29, 1994, “Government-to-Government Relations with Native American Tribal Governments” (59 FR 22951); the Department of the Interior-Alaska Policy on Government-to-Government Relations with Alaska Native Tribes dated January 18, 2001; Part 512 of the Departmental Manual, Chapter 2 “Departmental Responsibilities for Indian Trust Resources”; and various park consultation agreements with tribal governments, the potential effects on federally-recognized Indian tribes have been evaluated, and it has been determined at this time that there are no potential effects.

While the consultation agreements noted above have not resulted in findings of potential effects, a number of the proposed rules have been included as a direct consequence of consultation. Among these are the Glacier Bay National Park and Preserve proposals for the gathering of shed goat hair for weaving and the collection of certain renewable plant resources for traditional uses. Also influenced by consultation are the Katmai National Park and Preserve redfish proposal and the Cape Krusenstern National Monument and Kobuk Valley National Park subsistence resident zone proposals. These various proposals are of interest to local residents using these NPS areas and have been facilitated by the relationships established through government-to-government consultation. Finally, the initial determination of effect noted here is dynamic and subject to change throughout this rulemaking process due to the ongoing nature of government-to-government consultation for the NPS areas in Alaska.

Clarity of This Rule

Executive Order 12866 requires each agency to write regulations that are easy to understand. We invite your comments on how to make this rule easier to understand, including answers to questions such as the following: (1) Are the requirements in the rule clearly stated? (2) Does the rule contain technical language or jargon that interferes with its clarity? (3) Does the format of the rule (grouping and order of sections, use of headings, paragraphing, etc.) aid or reduce its clarity? (4) Would the rule be easier to read if it were divided into more (but shorter) sections? (A “section” appears in bold type and is preceded by the symbol “§ ” and a numbered heading.) (5) Is the description of the rule in the SUPPLEMENTARY INFORMATION section of the preamble helpful in understanding the proposed rule? What else could we do to make the rule easier to understand?

Send a copy of any comments that concern how we could make this rule easier to understand to: Office of Regulatory Affairs, Department of the Interior, Room 7229, 1849 C Street, NW., Washington, DC 20240. You may also e-mail the comments to this address: Exsec@ios.doi.gov.

Drafting Information: The principal contributors to this proposed rule are: Vic Knox, Associate Regional Director; Chuck Young, Chief Ranger, Glacier Bay National Park and Preserve; Hunter Sharp, Chief Ranger, Wrangell-St. Elias National Park and Preserve; Lou Waller, Jay Liggett, Jane Hendrick, Andee Hansen, Terry Humphrey, Joan Darnell, Heather Rice, Thetus Smith, and Paul Hunter, Alaska Regional Office.

Public Comment Solicitation: If you wish to comment on this proposed rule, you may submit your comments by any one of several methods:

(1) You may mail comments to Regional Director, 240 West 5th Ave., Anchorage, Alaska 99501. Fax: (907) 644-3805.

(2) You may also e-mail comments via the Internet to akro_regulations@nps.gov. Please include “Attn: Part 13 Rules” in the subject line and your name and return address in the body of your Internet e-mail message. Finally, you may hand deliver comments to Regional Director, 240 West 5th Ave., Anchorage, Alaska 99501. Our practice is to make comments, including names and addresses of respondents, available for public review during regular business hours. Individual respondents may request that we withhold their home address from the rulemaking record, which we will honor to the extent allowable by law. If you want us to withhold your name and/or address, you must state this prominently at the beginning of your comment. We will not consider anonymous comments. We will make all submissions from organizations or businesses, and from individuals identifying themselves as representatives or officials of organizations or businesses, available for public inspection in their entirety.

List of Subjects in 36 CFR Part 13

Alaska, National Parks, Reporting and recordkeeping requirements.

The Proposed Amendments to the Rule

For the reasons stated in the preamble, the National Park Service proposes to amend 36 CFR part 13 as set forth below:

PART 13—NATIONAL PARK SYSTEM UNITS IN ALASKA

1. Revise the authority citation for part 13 as follows:

16 U.S.C. 1, 3, 462(k), 3101 et seq.; Sec. 13.65 also issued under 16 U.S.C. 1a-2(h), 20, 1361, 1531, 3197; Pub. L. 105-277, 112 Stat. 2681, October 21, 1998; Pub. L. 106-31, 113 Stat 57, May 21, 1999; Sec. 13.66(c) also issued under Sec. 1035, Pub. L. 104-333, 110 Stat. 4240.

2. Amend § 13.1 by removing all alphabetical paragraph designations and adding the following terms in alphabetical order:

§ 13.1 Definitions.

* * * * *

The term airstrip means visible, marked, or known aircraft landing areas on the ground, snow, water, or any frozen surface. Airstrips may be marked with cones, lights, flagging, or windsocks, or be unmarked but recognizable because they have been cleared of vegetation or other obstructions.

* * * * *

The term facility means buildings, structures, park roads as defined by § 1.4, parking lots, campgrounds, picnic areas, paved trails, and maintenance support yards.

* * * * *

3. Revise § 13.4 to read as follows:

§ 13.4 Information collection.

The information collection requirements contained in §§ 13.17, 13.31, 13.44, 13.45, 13.49,13.51, and 13.65 are necessary for park Superintendents to issue concession contracts and special use permits, and have been approved by the Office of Management and Budget under 44 U.S.C. 3507. Information collections associated with the award of concession contracts are covered under OMB control number 1024-0125; the information collections associated with the issuance of special use permits are covered under OMB control number 1024-0026.

4-5. Add § 13.10 to read as follows:

§ 13.10 Obstruction of airstrips.

(a) A person may not place an object on the surface of an airstrip that, because of its nature or location, might cause injury or damage to an aircraft or person riding in the aircraft.

(b) A person may not dig a hole or make any kind of excavation, or drive a sled, tractor, truck, or any kind of vehicle upon an airstrip that might make ruts, or tracks, or add to an accumulation of tracks so as to endanger aircraft using the airstrip.

6. Revise § 13.18 to read as follows:

§ 13.18 Camping and picnicking.

(a) Camping. (1) Camping is authorized in park areas except where such use is prohibited or otherwise restricted by the Superintendent in accordance with the provisions of § 13.30, or as set forth for specific park areas in subpart C of this part.

(2) Site time limits. Camping is authorized for 14 consecutive days in one location. Camping is prohibited after 14 consecutive days in one location unless the camp is moved at least two miles or unless authorized by the Superintendent. All camps and associated equipment must be relocated immediately if determined by the Superintendent to be interfering with public access or other public interests or adversely impacting park resources.

(3) Designated campgrounds. Except at designated campgrounds, camping is prohibited on NPS facilities. The Superintendent may establish restrictions, terms, and conditions for camping in designated campgrounds. Violating restrictions, terms, and conditions is prohibited.

(b) Picnicking. Picnicking is authorized in park areas except where such activity is prohibited or otherwise restricted by the Superintendent. The public will be notified by one or more of the following methods:

(1) Signs posted at conspicuous locations, such as normal points of entry or reasonable intervals along the boundary of the affected park locale.

(2) Maps available in the office of the Superintendent and other places convenient to the public.

(3) Publication in a newspaper of general circulation in the affected area.

(4) Other appropriate methods, such as the use of electronic media, including the internet, park brochures, maps and handouts.

7. Amend § 13.19 as follows:

(a) Revise paragraphs (a) through (d);

(b) Redesignate (e) as (g);

(c) Add paragraphs (e) and (f), to read as follows:

§ 13.19 Weapons, traps and nets.

(a) Irritant chemical devices, including bear spray, may be carried, possessed, and used in accordance with applicable Federal and non-conflicting State laws, except when prohibited or restricted pursuant to § 13.30.

(b) Paragraphs (d) through (g) apply to all park areas in Alaska except Klondike Gold Rush National Historical Park, Sitka National Historical Park and the former Mt. McKinley National Park, Glacier Bay National Monument and Katmai National Monument.

(c) Except as provided in this section and § 2.4 of this chapter, the following are prohibited:

(1) Possessing a weapon, trap, or net.

(2) Carrying a weapon, trap, or net

(3) Using a weapon, trap, or net.

(d) Firearms may be carried, possessed, and used within park areas in accordance with applicable State and Federal laws, except where such carrying, possession, or use is prohibited or otherwise restricted pursuant to § 13.30.

(e) Traps, bows and other implements (other than firearms) authorized by applicable State and Federal law for the taking of fish and wildlife may be carried, possessed, and used within park areas only during those times when the taking of fish and wildlife is authorized by applicable law or regulation.

(f) In addition to the authorities provided in paragraphs (d) and (e) of this section, weapons (other than firearms), traps and nets may be possessed within park areas provided such weapons, traps or nets are within or upon a device or animal used for transportation and are unloaded and cased or otherwise packed in such a manner as to prevent their ready use while in a park area.

* * * * *

8. Amend § 13.20 as follows:

(a) Revise paragraph (a);

(b) Redesignate paragraphs (b), (c), (d), and (e) as paragraphs (c), (e), (f), and (g) respectively;

(c) Add new paragraphs (b) and (d); and

(d) Revise newly redesignated paragraphs (c)(4) and (f).

§ 13.20 Preservation of natural features.

(a) This section applies to all park areas in Alaska except Klondike Gold Rush National Historical Park, Sitka National Historical Park, the former Mt. McKinley National Park and the former Katmai National Monument.

(b) Gathering or collecting natural products, including living or dead fish and wildlife or parts or products thereof, plants or parts or products thereof, live or dead wood, fungi, seashells, rocks, and minerals is prohibited except as allowed by this section, § 2.1 of this chapter or part 13, subpart C.

(c) * * *

(4) Dead wood on the ground for use as fuel for campfires within the park area.

(d) The Superintendent may authorize, with or without conditions, the collection of dead standing wood in all or a portion of a park area. Collecting dead or downed wood in a closed area is prohibited. Collecting dead or downed wood in violation of terms and conditions is prohibited.

* * * * *

(f) Closure and Notice. (1) The Superintendent may limit the size and quantity of the natural products that may be gathered or possessed.

(2) Under conditions where it is found that significant adverse impact on park resources, wildlife populations, subsistence uses, or visitor enjoyment of resources will result, the Superintendent shall prohibit the gathering or otherwise restrict the collecting of these items. Portions of a park area in which closures or restrictions apply shall be either published in at least one newspaper of general circulation in the State and designated on a map which shall be available for public inspection in the office of the Superintendent, or designated by the posting of appropriate signs, or both.

* * * * *

9. In § 13.21, add new paragraph (d)(5) to read as follows:

§ 13.21 Taking of fish and wildlife.

* * * * *

(d) * * *

(5) Persons transporting wildlife through park areas must identify themselves and the location where the wildlife was taken when requested by an NPS employee or other authorized person.

* * * * *

10. Amend § 13.22 by revising paragraph (b) to read as follows:

§ 13.22 Unattended or abandoned property.

* * * * *

(b) Personal property. (1) Leaving personal property unattended longer than 4 months is prohibited. A Special Use Permit may be obtained from the Superintendent for unique or special circumstances that require property to be left in place for more than 4 months. All such requests must be made in writing to the Superintendent.

(2) All personal property must be labeled with the owner's name, home address, telephone number, date that the property was left, and the type of fuel if the property left contains fuel. Failure to label in accordance with this section is prohibited.

(3) All property must be stored in such a manner that wildlife is unable to access the contents. Storing property in a manner that wildlife can access contents is prohibited.

(4) Leaving fuel in more than one location in a park unit or leaving more than 30 gallons of fuel is prohibited unless authorized by the Superintendent.

(5) Storing fuel within 100 feet of a water source, high water mark of a body of water, or mean high tide is prohibited unless authorized by the Superintendent. Fuel must be contained in an undamaged and closed fuel container designed for fuel storage. Fueling from containers must occur in such a manner that any spillage would be prevented from coming into contact with water, soil, or vegetation.

(6) Leaving property unattended for longer than 24 hours on facilities is prohibited unless authorized by the Superintendent.

(7) Property left in violation of any prohibition in this section is subject to impoundment and, if abandoned, disposal or forfeiture.

* * * * *

11. Amend § 13.30 as follows:

(a) Revise paragraphs (c) and (d);

(b) Redesignate paragraph (h) as (i);

(c) Add a new paragraph (h), to read as follows:

§ 13.30 Closure procedures.

* * * * *

(c) Emergency Closures. (1) Emergency closures or restrictions relating to the taking of fish and wildlife shall be accomplished by notice and hearing.

(2) Other emergency closures shall become effective upon notice as prescribed in § 13.30(f); and

(3) No emergency closure or restriction shall extend for a period exceeding 30 days, nor may it be extended.

(d) Temporary closures or restrictions. (1) Temporary closures shall be effective upon notice as prescribed in § 13.30(f).

(2) Temporary closures or restrictions shall not extend for a period exceeding 12 months and may not be extended.

* * * * *

(h) Facility closures and restrictions. The Superintendent may close or restrict specific facilities for reasons of public health, safety, and protection of public property for the duration of the circumstance requiring the closure or restriction. Notice of facility closures and restrictions will be available for inspection at the park visitor center. Notice will also be posted near or within the facility, published in a newspaper of general circulation in the affected vicinity, or made available to the public by such other means as deemed appropriate by the Superintendent. Violating facilities closures or restrictions is prohibited.

* * * * *

12. Revise § 13.46(e) to read as follows:

§ 13.46 Use of snowmobiles, motorboats, dog teams, and other means of surface transportation traditionally employed by local rural residents engaged in subsistence uses.

* * * * *

(e) At all times when not engaged in subsistence uses, local rural residents may use snowmobiles, motorboats, dog teams, and other means of surface transportation in accordance with 43 CFR 36.11(c), (d), (e), and (g).

13. Amend § 13.60 by adding a new paragraph (b) to read as follows:

§ 13.60 Aniakchak National Monument and Preserve.

* * * * *

(b) Wildlife distance conditions. (1) Approaching a bear or any large mammal within 50 yards is prohibited.

(2) Continuing to occupy a position within 50 yards of a bear that is utilizing a concentrated food source, including, but not limited to, animal carcasses, spawning salmon, and other feeding areas is prohibited.

(3) The prohibitions do not apply to persons—

(i) Engaged in a legal hunt;

(ii) On a designated bear viewing structure;

(iii) In compliance with a written protocol approved by the Superintendent; or

(iv) Who are otherwise directed by a park employee.

14. Revise § 13.62(a) to read as follows:

§ 13.62 Cape Krusenstern National Monument.

(a) Subsistence Resident Zone. The following area is included within the resident zone for Cape Krusenstern National Monument:

The NANA Region.

15. Amend § 13.63 by revising paragraph (b) and adding paragraphs (i), (j), and (k) to read as follows:

§ 13.63 Denali National Park and Preserve.

* * * * *

(b) Camping. Camping is allowed in accordance with the backcountry management plan.

* * * * *

(i) Frontcountry Developed Area. For purposes of this section, the Frontcountry Developed Area (FDA) includes all park areas within the portion of the park formerly known as Mt. McKinley National Park (Old Park) not designated as Wilderness by Congress. A map showing the FDA is available at the park visitor center.

(1) Camping. (i) Camping in locations other than designated campgrounds is prohibited. From April 15 through September 30, parties camping at designated campgrounds must have a permit. Failure to obtain a permit is prohibited. Violation of permit terms and conditions is prohibited.

(ii) From April 15 through September 30, camping in designated campgrounds for more than a total of 14 days, either in a single period or combined periods, is prohibited. From October 1 through April 14, camping in designated campgrounds for more than a total of 30 days, either in a single period or combined periods is prohibited.

(2) Fires. In designated campgrounds, lighting or maintaining a fire is prohibited except in established grates.

(3) Pets. Possessing a pet is prohibited in the following locations: above the drinking water intake in the Rock Creek drainage; in the Visitor Center near the park entrance; the Eielson Visitor Center; and the Roadside Path between the park entrance area and park headquarters; the Mount Healy Overlook Trail; the Savage River Loop Trail; the Savage Rock Trail; the Savage Rest Area Loop Trail; the Horseshoe Lake Trail; the Taiga Loop Trail; the Rock Creek Trail; the Morino Trail; the Nenana River Trail; the Jonesville Bridge Trail; the McKinley Station Trail; the McKinley Bar Trail; the Wonder Lake Inlet Trail; the Blueberry Hill Trail; the Eielson Area Trails; and within 150 feet of the park sled dog kennel. A map of the designated trails and road side path will be available for inspection at the park visitor center.

(4) FDA closures and restrictions. The Superintendent may prohibit or otherwise restrict activities in the FDA to protect public health, safety, or park resources. Information on FDA closures and restrictions will be available for inspection at the park visitor center. Violating FDA closures or restrictions is prohibited.

(j) The use of a bicycle is prohibited on the following trails: the Roadside Path; the Mount Healy Overlook Trail; the Visitor Center Interpretative trails; the Savage River Loop Trail; the Savage Rock Trail; the Savage Rest Area Loop Trail; the Savage Cabin Trail; the Horseshoe Lake Trail; the Taiga Loop Trail; the Rock Creek Trail; the Morino Trail; Triple Lakes Trail; the Nenana River Trail; the Jonesville Bridge Trail; the McKinley Station Trail; the McKinley Bar Trail; the Wonder Lake Inlet Trail; the Blueberry Hill Trail; all campground trails; and the Eielson Area Trails. A map of the designated trails and road side path will be available for inspection at the park visitor center.

(k) The use of roller skates, skateboards, roller skis, in-line skates, and other skating devices is prohibited on the Denali Park Road and the following trails: the Roadside Path; the Mount Healy Overlook Trail; the Visitor Center Interpretative trails; the Savage River Loop Trail; the Savage Rock Trail; the Savage Rest Area Loop Trail; the Savage Cabin Trail; the Horseshoe Lake Trail; the Taiga Loop Trail; the Rock Creek Trail; the Morino Trail; Triple Lakes Trail; the Nenana River Trail; the Jonesville Bridge Trail; the McKinley Station Trail; the McKinley Bar Trail; the Wonder Lake Inlet Trail; the Blueberry Hill Trail; all campground trails; and the Eielson Area Trails. A map of the designated trails and roadside path will be available for inspection at the park visitor center.

16. Amend § 13.65 as follows:

(a) Revise paragraphs (a)(4)(ii), (a)(5)(ii), (a)(5)(iv), and (a)(5)(v);

(b) Amend paragraph (b)(1) by adding a new definition for “Bartlett Cove Developed Area” in alphabetical order immediately before the definition for “Charter vessel”;

(c) Add new paragraphs (b)(3)(ix)(C)(1) through (7);

(d) remove paragraph (b)(7), to read as follows:

§ 13.65 Glacier Bay National Park and Preserve.

(a) * * *

(4) * * *

(ii) They have participated as a limited entry permit holder or crewmember in the district or statistical area encompassing Glacier Bay for each fishery for which a lifetime access permit is being sought.

(A) For the Glacier Bay commercial halibut fishery, the applicant must have participated as a permit holder or crewmember for at least two years during the period 1992-1998.

(B) For the Glacier Bay salmon or Tanner crab commercial fisheries, the applicant must have participated as a permit holder or crewmember for at least three years during the period 1989-1998.

(5) * * *

(ii) A notarized affidavit, sworn by the applicant, attesting to his or her history of participation as a limited entry permit holder or crewmember in Glacier Bay during the qualifying period for each fishery for which a lifetime access permit is being sought;

(iii) * * *

(iv) For qualifying years as a limited entry permit holder, proof of the applicant's permit and quota share history for the Glacier Bay fishery during the qualifying period, and/or for qualifying years as a crewmember, other available corroborating documentation of crewmember status. This may include a copy of the applicant's commercial crewmember license for each qualifying year, a notarized affidavit from their employer (generally a limited entry permit holder, or boat owner hired or contracted by a limited entry permit holder) stating the years worked by the applicant in a qualifying fishery in Glacier Bay, copies of tax forms W-2 or 1099, pay stubs, or other documentation;

(v) For applicants qualifying as a limited entry permit holder, documentation of commercial landings for the Glacier Bay fishery during the qualifying periods—i.e., within the statistical unit or area that includes Glacier Bay. For halibut, this includes regulatory sub-area 184. For Tanner crab, this includes statistical areas 114-70 through 114-77. For salmon, the Superintendent may require additional documentation that supports the applicant's declaration of Glacier Bay salmon landings. For halibut and Tanner crab, the Superintendent may consider documented commercial landings from the unit or area immediately adjacent to Glacier Bay (in Icy Strait) if additional documentation supports the applicant's declaration that landings occurred in Glacier Bay.

(b) * * *

(1) * * *

The term Bartlett Cove Developed Area means all NPS-administered lands and waters within 1 mile of any Bartlett Cove facility. A map showing the Bartlett Cove Developed Area is available at the park visitor center.

* * * * *

(3) * * *

(ix) * * *

(C) * * *

(1) Bartlett Cove Developed Area. (i) Camping is prohibited in the Bartlett Cove Developed Area except in the Bartlett Cove Campground. From May 1 through September 30, all overnight campers must register to camp in the Bartlett Cove Campground. Failure to register is prohibited.

(ii) Cooking, consuming, or preparing food in the Bartlett Cove Campground is prohibited except in designated areas.

(iii) Food storage. In the Bartlett Cove Developed Area, storing food in any manner except in a sealed motor vehicle, a vessel (excluding kayaks), a building, an approved bear resistant food container, a bear resistant trash receptacle, or a designated food cache is prohibited.

(iv) Bicycles. The use of a bicycle is prohibited on the Forest Loop, Bartlett River and Bartlett Lake trails.

(v) Bartlett Cove Developed Area closures and restrictions. The Superintendent may prohibit or otherwise restrict activities in the Bartlett Cove Developed Area to protect public health, safety, or park resources, or to provide for the equitable and orderly use of park facilities. Information on closures and restrictions will be available at the park visitor information center. Violating Bartlett Cove Developed Area closures or restrictions is prohibited.

(2) Bartlett Cove Public Use Dock. (i) Docking, tying down, or securing aircraft is prohibited except at the designated aircraft float at the Bartlett Cove Public Use Dock. Docking, tying down, or securing aircraft to the Bartlett Cove Public Use Dock for longer than three hours in a 24-hour period is prohibited. Pilots must remain with aircraft or provide notice of their location to a park ranger. Failure to remain with the aircraft or provide notice to a park ranger is prohibited.

(ii) Vehicles exceeding 30,000 pounds gross vehicle weight are prohibited on the dock, unless authorized by the Superintendent.

(iii) Leaving personal property (other than vessels) unattended on, or attached to, the floats or pier without prior permission from the Superintendent is prohibited.

(iv) Processing commercially caught fish on the Public Use Dock is prohibited.

(v) Buying or selling of fish or fish products is prohibited on or at the Public Use Dock without written permission from the Superintendent.

(vi) Utilizing the fuel dock for activities other than fueling and waste pump-out is prohibited.

(vii) Leaving a vessel unattended on the fuel dock for any length of time is prohibited.

(viii) Using electrical shore power for vessels is prohibited unless otherwise authorized by the Superintendent.

(3) Collection of interstadial wood. Collecting or burning interstadial wood (aged wood preserved in glacial deposits) is prohibited.

(4) Collection of rocks and minerals. Collecting rocks and minerals in the former Glacier Bay National Monument is prohibited.

(5) Collection of goat hair. The collection of naturally shed goat hair is authorized in accordance with terms and conditions established by the Superintendent. Violating terms and conditions for collecting goat hair is prohibited.

(6) Camping. From May 1 through September 30, all persons camping within Glacier Bay as defined by this section up to ¼ nautical mile (1519 feet) above the line of mean high tide must receive an NPS-approved camping orientation. A camping orientation is required for each visit. Failure to receive an NPS-approved camping orientation is prohibited.

(7) Commercial transport of passengers by motor vehicles in Bartlett Cove. Commercial transport of passengers between Bartlett Cove and Gustavus by motor vehicles legally licensed to carry 15 passengers or less is allowed without a permit. However, if required to protect public health and safety or park resources, or to provide for the equitable use of park facilities, the Superintendent may establish a permit requirement with appropriate terms and conditions for the transport of passengers.

* * * * *

17. In § 13.66 add new paragraphs (c) through (f), to read as follows:

§ 13.66 Katmai National Park and Preserve.

* * * * *

(c) Traditional red fish fishery. Local residents who are descendants of Katmai residents who lived in the Naknek Lake and River Drainage will be authorized, in accordance with State fishing regulations or conditions established by the Superintendent, to continue their traditional fishery for red fish (spawned-out sockeye salmon that have no significant commercial value).

(d) Brooks Camp Developed Area. For purposes of this section, the Brooks Camp Developed Area (BCDA) consists of all park areas within a 1.5 mile radius from the Brooks Falls Platform and is depicted on a map available at the park visitor center. Paragraphs (d)(1) through (10) of this section apply from May 1 through October 31 unless stated otherwise.

(1) Camping. (i) Camping is prohibited in all areas of the BCDA except within the Brooks Camp Campground and other designated areas.

(ii) Camping in Brooks Camp Campground for more than 7 total nights during the month of July is prohibited.

(iii) Exceeding a group size limit of 6 persons per site in the Brooks Camp Campground while in operation as a designated fee area is prohibited.

(2) Visiting hours. The Falls and Riffles bear viewing platforms and boardwalks are closed from 10 pm to 7 am during the period June 15 through August 15. Entering or going upon these platforms and boardwalks during these hours is prohibited.

(3) Brooks Falls Area. The area within 50 yards of the ordinary high water marks of the Brooks River from the Riffles Bear Viewing Platform to a point 100 yards above Brooks Falls is closed to entry from June 15 through August 15, unless authorized by the Superintendent.

(4) Food storage. In the BCDA, all fish must be stored in designated facilities and in accordance with conditions established by the Superintendent. Storing fish in undesignated areas or not in accordance with conditions is prohibited. Employees may store fish in employee residences.

(5) Campfires. Campfires outside of pre-established, designated fire rings are prohibited in the BCDA.

(6) Sanitation. Within the BCDA, washing dishes or cooking utensils at locations other than the water spigot near the food cache in the Brooks Campground or other designated areas is prohibited.

(7) Pets. Possessing a pet in the BCDA is prohibited.

(8) Bear Orientation. All persons visiting the BCDA must receive an NPS approved Bear Orientation. Failure to receive an NPS approved Bear Orientation is prohibited.

(9) Picnicking. Within the BCDA, picnicking in locations other than the Brooks Camp Visitor Center picnic area, Brooks Campground, Brooks Lake Picnic Area, and a site designated in the employee housing area is prohibited. Food consumption or possession while at the Brooks River is prohibited.

(10) Unattended Property. Leaving property, other than motorboats and planes, unattended for any length of time within the BCDA is prohibited, except at the Brooks Lodge Porch, Brooks Campground, or designated equipment caches at the Brooks Camp Visitor Center.

(11) BCDA closures and restrictions. The Superintendent may prohibit or otherwise restrict activities in the BCDA to protect public health and safety or park resources. Information on BCDA closures and restrictions will be available for inspection at the park visitor center. Violating BCDA closures or restrictions is prohibited.

(e) Wildlife distance conditions. (1) Approaching a bear or any large mammal within 50 yards is prohibited.

(2) Continuing to occupy a position within 50 yards of a bear that is utilizing a concentrated food source, including, but not limited to, animal carcasses, spawning salmon, and other feeding areas is prohibited.

(3) The prohibitions do not apply to persons—

(i) Engaged in a legal hunt;

(ii) On a designated bear viewing structure;

(iii) In compliance with a written protocol approved by the Superintendent; or

(iv) Who are otherwise directed by a park employee.

(f) Lake Camp. Leaving a boat, trailer, or vehicle unattended for more than 48 hours at the facilities associated with the Lake Camp launching ramp is prohibited without authorization from the Superintendent. Leaving a boat unattended at the Lake Camp dock is prohibited.

18. In § 13.67 add new paragraphs (b) and (c), to read as follows:

§ 13.67 Kenai Fjords National Park.

* * * * *

(b) Exit Glacier. (1) Except for areas designated by the Superintendent, climbing or walking on, in, or under Exit Glacier is prohibited within ½ mile of the glacial terminus from May 1 through October 31, and during other periods as determined by the Superintendent. Restrictions and exceptions will be available for inspection at the park visitor center, on bulletin boards or signs, or by other appropriate means.

(2) Entering an ice fall hazard zone is prohibited. These zones will be designated with signs, fences, rope barriers, or similar devices.

(c) Public Use Cabins. (1) Camping within 500 feet of the North Arm or Holgate public use cabin is prohibited except by the cabin permit holder on a designated tent site, or as otherwise authorized by the Superintendent.

(2) Camping within the five acre National Park Service leased parcel surrounding the Aialik public use cabin is prohibited except by the cabin permit holder on a designated tent site, or as otherwise authorized by the Superintendent.

(3) Building or maintaining a fire within 500 feet of the North Arm or Holgate public use cabins is prohibited except by the cabin permit holder in NPS provided campfire rings, or as otherwise authorized by the Superintendent.

(4) Building or maintaining a fire within the 5 acre National Park Service leased parcel surrounding the Aialik public use cabin is prohibited except by the cabin permit holder in NPS provided campfire rings, or as otherwise authorized by the Superintendent.

19. Revise § 13.68 to read as follows:

§ 13.68 Klondike Gold Rush National Historical Park.

(a) Camping. (1) Camping is permitted only in designated areas.

(2) Camping without a permit is prohibited. The Superintendent may establish permit terms and conditions; failure to comply with permit terms and conditions is prohibited.

(3) Dyea campground. Camping at Dyea campground more than 14 days in a calendar year is prohibited.

(b) Preservation of natural, cultural, and archaeological resources. The Superintendent may designate the gathering of mushrooms in accordance with the procedures set forth in § 2.1(c) of this chapter.

(c) The National Park Service administers certain State-owned lands and waters within the boundary of Klondike Gold Rush National Historical Park pursuant to a memorandum of understanding with the State of Alaska. The prohibition on carrying, possession, and use of weapons, traps, and nets in this chapter does not apply to the lawful taking of wildlife on these State-owned lands and waters.

20. In § 13.69 revise paragraph (a)(1) to read as follows:

§ 13.69 Kobuk Valley National Park.

(a) Subsistence—(1) Resident Zone. The following area is included within the resident zone for Kobuk Valley National Park: The NANA Region.

* * * * *

21. Revise § 13.72 to read as follows:

§ 13.72 Sitka National Historical Park.

(a) Prohibited Activities. The following activities are prohibited in Sitka National Historical Park:

(1) Overnight camping.

(2) Riding a bicycle, except in the public parking areas and on routes designated by the Superintendent. Routes may only be designated for bicycle use based on a written determination that such use is consistent with the purposes for which the park was established.

(3) The use of roller skates, skateboards, roller skis, in-line skates, and other skating devices.

22. In § 13.73 add paragraphs (b) through (e), to read as follows:

§ 13.73 Wrangell-St. Elias National Park and Preserve.

* * * * *

(b) Kennecott Mines National Historic Landmark (KNHL). A map showing the boundaries of the KNHL is available at the park visitor center. The following activities are prohibited within the KNHL:

(1) Entering closed structures or passing beyond barricades.

(2) Entering mine tunnels and other mine openings.

(3) Camping in or on any historic structure.

(4) Camping within the mill site of the KNHL. The mill site consists of the collection of buildings clustered around the mill building on both sides of National Creek. For purposes of this section, the mill site is the area bounded by Bonanza Creek to the north, the Kennecott Glacier to the west, the 2,200 foot contour line to the east, and Sweet Creek to the south. The mill site is depicted on a map available at the park visitor center.

(5) Lighting or maintaining a fire within the mill site as defined in paragraph (b)(4) of this section.

(c) Headquarters/Visitor Center Developed Area (HVCDA). For purposes of this paragraph, the HVCDA consists of all park areas within a ½ mile radius of the Wrangell-St. Elias National Park and Preserve Headquarters building, other than the Valdez Trail. The following activities are prohibited within the HVCDA:

(1) Lighting or maintaining a fire.

(2) Camping.

(3) Entering the area after visiting hours. Visiting hours will be posted at the entrance gate.

(d) Slana Developed Area (SDA). For purposes of this section, the Slana Developed Area consists of all park areas within a ¼ mile radius of the Slana Ranger Station.

(e) KNHL and developed area closures and restrictions. The Superintendent may prohibit or otherwise restrict activities in the KNHL, Headquarter/Visitor Center Developed Area, and Slana Developed Area to protect public health and safety or park resources. Information on closures and restrictions will be available at the park visitor center. Violating such closures or restrictions is prohibited. Notwithstanding the provisions of this section, the Superintendent may issue a Special Use Permit to authorize uses in the KNHL and either developed area.

Dated: March 17, 2004.
Paul Hoffman,
Deputy Assistant Secretary for Fish and Wildlife and Parks.

[FR Doc. 04-7131 Filed 4-1-04; 8:45 am]

BILLING CODE 4310-PW-P